DEPARTMENT OF HEALTH AND HUMAN SERVICES

Administration for Children and Families

Modification to the Basic Center Program Funding Opportunity Announcement

Program Office: Administration on Children, Youth, & Families—Family & Youth Services Bureau.

Funding Opportunity Title: Basic Center Program.

Announcement Type: Modification.

Funding Opportunity Number: HHS-2010-ACF-ACYF-CY-0002.

CFDA Number: 93.623.

Due Date for Applications:07/19/2010.

This is a Modification to the Basic Center Program Funding Opportunity Announcement (FOA), HHS-2010-ACF-ACYF-CY-0002, published to the ACF Grant Opportunities webpage on June 2, 2010, http://www.acf.hhs.gov/grants/open/foa/view/HHS-2010-ACF-ACYF-CY-0002. A modified FOA that incorporates the following changes was published to the ACF Grant Opportunities webpage on June 25, 2010. The application procedures are hereby modified.

SUMMARY: The Family and Youth Services Bureau (FYSB) is accepting applications for the Basic Center Program (BCP), which is authorized by the Runaway and Homeless Youth Act to address Runaway and Homeless Youth (RHY) problems. BCPs provide an alternative for runaway and homeless youth who might otherwise end up with law enforcement or in the child welfare, mental health, or juvenile justice systems. Each BCP must provide runaway and homeless youth with a safe and appropriate shelter; individual, family, and group counseling, as appropriate; and aftercare.

The purpose of the modification is to correct information appearing in Section IV.2 Content and Form of Application Submission regarding application formatting and point deduction for noncompliance with FOA instructions.

Modification to the Published Announcement

Please delete the following under Section IV.2. Content and Form of Application Submission:

“Applicants that do not adhere to the prescribed format will have points deducted from the overall total after the grant review:

Program narrative (which includes Objective and Need for Assistance, Results and Benefits, Approach, Organizational Profile, Staff and Position Data, and Budget Justification) is not double spaced: Deduction of 5 points.

Margins less than ½ inch: Deduction of 3 points.

Font is not at least 12-point size or Times New Roman: Deduction of 2 points.”

Please replace the deleted language under Section IV.2. Content and Form of Application Submission with the following:

“Applications that do not adhere to the prescribed format will be converted to conform with the prescribed format. Should the conversion result in a document which exceeds 90 pages, all pages exceeding the 90-page limit will be removed and will not be considered in the reviewing process.”

All information in this modification is accurate and replaces information specified in the June 2, 2010 Funding Opportunity Announcement. Announcement Availability: To access this Program Announcement please go to the ACF Grant Opportunities webpage at http://www.acf.hhs.gov/grants/index.html or to http://www.Grants.gov.

FOR FURTHER INFORMATION CONTACT: Victoria Marquez at 202-205-4866 and Victoria.Marquez@acf.hhs.gov.

Dated: July 1, 2010.
Bryan Samuels,
Commissioner, Administration on Children, Youth and Families.

[FR Doc. 2010-17069 Filed 7-12-10; 8:45 am]

BILLING CODE 4182-04-P